DEPARTMENT OF COMMERCE

International Trade Administration

[A-570-890]

Wooden Bedroom Furniture From the People's Republic of China: Continuation of Antidumping Duty Order

AGENCY: Enforcement and Compliance, International Trade Administration, Department of Commerce.

SUMMARY: As a result of the determinations by the Department of Commerce (the “Department”) and the International Trade Commission (the “ITC”) that revocation of the antidumping duty (“AD”) duty order on wooden bedroom furniture from the People's Republic of China (“PRC”) would likely lead to a continuation or recurrence of dumping and material injury to an industry in the United States, the Department is publishing a notice of continuation of the AD duty order.

DATES: Effective February 24, 2017.

FOR FURTHER INFORMATION CONTACT: Aleksandras Nakutis or Howard Smith, AD/CVD Operations, Office IV, Enforcement and Compliance, International Trade Administration, U.S. Department of Commerce, 1401 Constitution Avenue NW., Washington, DC 20230; telephone: 202-482-3147 or 202-482-5193, respectively.

SUPPLEMENTARY INFORMATION:

Background

On January 4, 2005, the Department published in the Federal Register the AD duty order on wooden bedroom furniture from the PRC.¹ On November 3, 2015, the Department published in the Federal Register the initiation notice for the second sunset review of the AD duty order on wooden bedroom furniture from the PRC, pursuant to section 751(c) of the Tariff Act of 1930, as amended (the “Act”).² On December 3, 2015, the Department received a substantive response from the domestic industry to participate in the second sunset review; ³ no other parties participated. As a result of its review, the Department determined, pursuant to sections 751(c)(1) and 752(b) and (c) of the Act, that revocation of the AD duty order on wooden bedroom furniture from the PRC would likely lead to continuation or recurrence of dumping and notified the ITC of the magnitude of the margins likely to prevail should the order be revoked.⁴ On February 14, 2017, the ITC published its determination, pursuant to section 751(c) of the Act, that revocation of the AD duty order on wooden bedroom furniture from the PRC would likely lead to a continuation or recurrence of material injury to an industry in the United States within a reasonably foreseeable time.⁵

Scope of the Order

¹ See Notice of Amended Final Determination of Sales at Less Than Fair Value and Antidumping Duty Order: Wooden Bedroom Furniture from the People's Republic of China, 70 FR 329 (January 4, 2005) (“Order”).

² See Initiation of Five-Year (“Sunset”) Review, 80 FR 67705 (November 3, 2015).

³ See letter form the American Furniture Manufacturers Committee for Legal Trade and Vaughan-Bassett Furniture Company, Inc. to the Department, regarding “Five-Year(“Sunset”) Review of the Antidumping Duty Order on Wooden Bedroom Furniture from the People's Republic of China/The Domestic Industry's Substantive Response to the Notice of Initiation,” dated December 3, 2015.

⁴ See Wooden Bedroom Furniture From the People's Republic of China: Final Results of the Expedited Second Sunset Review of the Antidumping Duty Order, 81 FR 12462 (March 9, 2016) (“Final Results”).

⁵ See Wooden Bedroom Furniture from China; Determination, 82 FR 10587 (February 14, 2017), and USITC Publication 4665 (January 2017), entitled Wooden Bedroom Furniture from China: Investigation No. 731-TA-1058 (Second Review).

The product covered by the Order is wooden bedroom furniture, subject to certain exceptions. Imports of subject merchandise are classified under Harmonized Tariff Schedule of the United States (“HTSUS”) subheadings: 9403.50.9042 and 9403.50.9045 of the HTSUS as “wooden . . . beds” and under subheading 9403.50.9080 of the HTSUS as “other . . . wooden furniture of a kind used in the bedroom.” In addition, wooden headboards for beds, wooden footboards for beds, wooden side rails for beds, and wooden canopies for beds may also be entered under subheading 9403.50.9042 or 9403.50.9045 of the HTSUS as “parts of wood.” Subject merchandise may also be entered under subheadings 9403.50.9041, 9403.60.8081, or 9403.20.0018. Further, framed glass mirrors may be entered under subheading 7009.92.1000 or 7009.92.5000 of the HTSUS as “glass mirrors . . . framed.” However, the product description, and not the HTSUS classification, is dispositive of whether merchandise imported into the United States falls within the scope of the order.⁶

⁶ For a full description of the scope of the order, including exclusions, see Final Results and the accompanying “Issues and Decision Memorandum for the Expedited Second Sunset Review of the Antidumping Duty Order on Wooden Bedroom Furniture from the People's Republic of China” from Christian Marsh, Deputy Assistant Secretary for Antidumping and Countervailing Duty Operations, to Paul Piquado, Assistant Secretary for Enforcement and Compliance.

Continuation of the Order

As a result of the determinations by the Department and the ITC that revocation of the AD duty order would likely lead to a continuation or recurrence of dumping and material injury to an industry in the United States, pursuant to section 751(d)(2) of the Act and 19 CFR 351.218(a), the Department hereby orders the continuation of the AD duty order on wooden bedroom furniture from the PRC. U.S. Customs and Border Protection will continue to collect AD duty cash deposits at the rates in effect at the time of entry for all imports of subject merchandise. The effective date of the continuation of the order will be the date of publication in the Federal Register of this notice of continuation. Pursuant to section 751(c)(2) of the Act and 19 CFR 351.218(c)(2), the Department intends to initiate the next five-year review of the order not later than 30 days prior to the fifth anniversary of the effective date of continuation.

This five-year sunset review and this notice are in accordance with section 751(c) and 751(d)(2) of the Act and published pursuant to section 777(i)(1) of the Act and 19 CFR 351.218(f)(4).

Administrative Protective Order

This notice also serves as the only reminder to parties subject to administrative protective order (“APO”) of their responsibility concerning the return/destruction or conversion to judicial protective order of proprietary information disclosed under APO in accordance with 19 CFR 351.305(a)(3). Failure to comply is a violation of the APO which may be subject to sanctions.

Dated: February 17, 2017.
Ronald K. Lorentzen,
Acting Assistant Secretary for Enforcement and Compliance.

[FR Doc. 2017-03639 Filed 2-23-17; 8:45 am]

BILLING CODE 3510-DS-P